DEPARTMENT OF TRANSPORTATION

Maritime Administration

46 CFR Part 221

[Docket No. MARAD-2002-12842]

General Approval of Time Charters

AGENCY: Maritime Administration (MARAD), DOT.

ACTION: Policy review with request for comments; extension of comment period.

SUMMARY: On August 2, 2002, MARAD (we, us, or our) published a Policy Review with Request for Comments soliciting public comment on whether the policy of granting general approval of time charters should be changed (67 FR 50406). We are extending the public comment period from Setpember 3, 2002, to October 3, 2002.

DATES: Interested parties are requested to submit comments on or before October 3, 2002.

ADDRESSES: Comments should refer to docket number MARAD-2002-12842. Written comments may be submitted by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays.

FOR FURTHER INFORMATION CONTACT: Edmund T. Sommer, Jr., Chief, Division of General and International Law, Office of the Chief Counsel, Maritime Administration, Department of Transportation, Room 7228, 400 7th Street SW, Washington, DC 20590, telephone (202) 366-5181.

Dated: August 20, 2002.
By Order of the Maritime Administrator.
Christine S. Gurland,
Acting Secretary, Maritime Administration.

[FR Doc. 02-21632 Filed 8-23-02; 8:45 am]

BILLING CODE 4910-81-P